DEPARTMENT OF LABOR

Employment and Training Administration

[TA-W-70,272]

Mercedes-Benz United States International, Inc., Including On-Site Leased Workers From Talent Tree and Formel D, Vance, AL; Amended Certification Regarding Eligibility To Apply for Worker Adjustment Assistance

In accordance with Section 223 of the Trade Act of 1974, as amended (“Act”), 19 U.S.C. 2273, the Department of Labor issued a Certification of Eligibility to Apply for Worker Adjustment Assistance on August 13, 2009 applicable to workers of Mercedes-Benz United States International, Inc., Vance, Alabama. The notice was published in the Federal Register on September 22, 2009 (74 FR 48299-48302).

At the request of the State Agency, the Department reviewed the certification for workers of the subject firm. The workers are engaged in activities related to the assembly of automobiles.

The company reports that on-site leased workers from Formel D were employed on-site at the Vance, Alabama location of Mercedes-Benz United States International, Inc. The Department has determined that these workers were sufficiently under control of the subject firm to be considered leased workers.

Based on these findings, the Department is amending this certification to include workers leased from Formel D on-site at the Vance, Alabama location of Mercedes-Benz United States International, Inc.

The amended notice applicable to TA-W-70,272 is hereby issued as follows:

All workers of Mercedes-Benz United States International, Inc., including on-site leased workers from Talent Tree and Formel D, Vance, Alabama, who became totally or partially separated from employment on or after May 18, 2008, through two years from the date of certification, and all workers in the group threatened with total or partial separation from employment on date of certification through two years from the date of certification, are eligible to apply for adjustment assistance under Chapter 2 of Title II of the Trade Act of 1974, as amended.

Signed in Washington, DC, this 15th day of October 2009.
Richard Church,
Certifying Officer, Division of Trade Adjustment Assistance.

[FR Doc. E9-25796 Filed 10-26-09; 8:45 am]

BILLING CODE 4510-FN-P